INTERNATIONAL TRADE COMMISSION

[USITC SE-01-041]

Sunshine Act Meeting

AGENCY HOLDING THE MEETING: United States International Trade Commission.

TIME AND DATE: November 19, 2001 at 2 p.m.

PLACE: Room 101, 500 E Street SW., Washington, DC 20436, Telephone: (202) 205-2000.

STATUS: Open to the public.

MATTERS TO BE CONSIDERED: 1. Agenda for future meeting: none.

2. Minutes.

3. Ratification List.

4. Inv. No. 731-TA-859 (Final)(Remand)(Certain Circular Seamless Stainless Steel Hollow Products from Japan)—briefing and vote. (The Commission is currently scheduled to transmit its views on remand to the Court of International Trade on December 3, 2001.)

5. Outstanding action jackets: none.

In accordance with Commission policy, subject matter listed above, not disposed of at the scheduled meeting, may be carried over to the agenda of the following meeting. Earlier announcement of this meeting was not possible.

By order of the Commission.
Issued: November 14, 2001.
Donna R. Koehnke,
Secretary.

[FR Doc. 01-28821 Filed 11-14-01;12:15 pm]

BILLING CODE 7020-02-P